DEPARTMENT OF TRANSPORTATION

Federal Aviation Administration

Notice of Intent To Rule on Application (05-05-CX-00-DRO) To Impose and To Use a Passenger Facility Charge (PFC) at the Durango-La Plata County Airport, Submitted by the County of La Plata and the City of Durango, CO

AGENCY: Federal Aviation Administration (FAA), DOT.

ACTION: Notice of intent to rule on application.

SUMMARY: The FAA proposes to rule and invites public comment on the application to impose and use a PFC at the Durango-La Plata County Airport under the provisions of 49 U.S.C. 40117 and part 158 of the Federal Aviation Regulations (14 CFR 158).

DATES: Comments must be received on or before January 18, 2005.

ADDRESSES: Comments on this application may be mailed or delivered in triplicate to the FAA at the following address: Craig Sparks, Manager; Denver Airports District Office, DEN-ADO; Federal Aviation Administration; 26805 E. 68th Avenue, Suite 224; Denver, Colorado 80249-6361.

In addition, one copy of any comments submitted to the FAA must be mailed or delivered to Mr. Ron Dent, A.A.E. at the following address: Durango-La Plata County Airport, 1000 Airport Road, Box 1, Durango, Colorado 81303.

Air Carriers and foreign air carriers may submit copies of written comments previously provided to the Durango-La Plata County Airport, under section 158.23 of part 158.

FOR FURTHER INFORMATION CONTACT: Mr. Christopher Schaffer, (303) 342-1258; Denver Airports District Office, DEN-ADO; Federal Aviation Administration; 26805 E. 68th Avenue, Suite 224; Denver, Colorado 80249-6361. The application may be reviewed in person at this same location.

SUPPLEMENTARY INFORMATION: The FAA proposes to rule and invites public comment on the application (05-05-C-00-DRO) to impose and use a PFC at the Durango-La Plata County Airport, under the provisions of 49 U.S.C. 40117 and part 158 of the Federal Aviation Regulations (14 CFR part 158).

On December 10, 2004, the FAA determined that the application to impose and use PFC submitted by the County of La Plata and the City of Durango, Colorado, was substantially complete within the requirements of § 158.25 of part 158. The FAA will approve or disapprove the application, in whole or in part, no later than March 12, 2005.

The following is a brief overview of the application.

Level of the Proposed PFC: $4.50.

Proposed Charge-Effective Date: December 1, 2004.

Proposed Charge-Expiration Date: December 30, 2008.

Total Requested for Collection Approval: $1,604,120.

Brief Description of Proposed Projects: Construct north ramp and access taxiway, realign airport entrance road and resurface terminal roadways, prepare environmental assessment of south Taxiway A extension, design south Taxiway A extension, acquire south runway protection zone land, acquire glycol recovery system, construct south Taxiway A extension.

Class or Classes of Air Carriers That the Public Agency Has Requested Not be Required to Collect PFC's: None.

Any person may inspect the application inperson at the FAA office listed above under “FOR FURTHER INFORMATION CONTACT” and at the FAA Regional Airports Office located at: Federal Aviation Administration, Northwest Mountain Region, Airports Division, ANM-600, 1601 Lind Avenue SW., Suite 315, Renton, WA 98055-4056.

In addition, any person may, upon request, inspect the application, notice, and other documents germane to the application in person at the Durango-La Plata County Airport.

Issued in Renton, Washington on December 10, 2004.
David A. Field,
Manager, Planning, Programming and Capacity Branch, Northwest Mountain Region.

[FR Doc. 04-27692 Filed 12-16-04; 8:45 am]

BILLING CODE 4910-13-M